DEPARTMENT OF ENERGY

Federal Energy Regulatory Commission

[Docket No. EG03-43-000, et al.]

Bowie Power Station, et al.; Electric Rate and Corporate Filings

March 13, 2003.

The following filings have been made with the Commission. The filings are listed in ascending order within each docket classification.

1. Bowie Power Station, LLC

[Docket No. EG03-43-000]

Take notice that on March 7, 2003, Bowie Power Station, LLC (Bowie), a Delaware limited liability company with its principal place of business at 4350 East Camelback Road, Suite B-150, Phoenix, Arizona, 85018, filed with the Federal Energy Regulatory Commission (Commission) an application for determination of exempt wholesale generator status pursuant to part 365 of the Commission's regulations. Bowie describes the application as an amendment of its application filed in Docket No. EG03-39-000.

Bowie states that it owns and, following completion of construction, will operate a nominal 1000 MW power generation facility located in Cochise County, Arizona (the Facility). Electric energy produced from the Facility will be sold by Bowie to the wholesale power market.

Comment Date: April 3, 2003.

2. California Power Exchange Corporation

[Docket No. ER02-2234-008]

Take notice that on March 10, 2003, the California Power Exchange Corporation made a filing to comply with the Commission's February 25, 2003, Order in this proceeding (102 FERC¶ 61,208).

Comment Date: March 31, 2003.

3. Allegheny Power

[Docket No. ER03-309-002]

Take notice that on March 10, 2003, Allegheny Power (Allegheny) filed revised sheets to the unexecuted Interconnection and Operating Agreement (Agreement) with Duke Energy Fayette, LLC (Duke) filed with the Federal Energy Regulatory Commission (Commission) on December 19, 2002. The purpose of this filing is to comply with the Commission's “Order Conditionally Accepting Interconnection Service Agreement and Interconnection and Operating Agreement and Rejecting Amendment To Interconnection Agreement” issued in the above-referenced proceedings on February 7, 2003 (Order), 102 FERC ¶ 61,161.

Allegheny Power states that copies of the filing were served on Duke, the interested state commissions and on all parties listed on the official service list to this proceeding.

Comment Date: March 31, 2003.

4. Southern California Edison Company

[Docket Nos. ER03-338-001]

Take notice that on March 10, 2003, Southern California Edison Company (SCE) tendered for filing a revised rate sheet for its Transmission Owner Tariff, FERC Electric Tariff, Second Revised Volume No. 6. The purpose of this filing is to comply with the Commission's February 21, 2003, Order in Docket No. ER03-338-000.

SCE state that copies of this filing were served on the parties listed on the Service List in Docket No. Er03-338-000.

Comment Date: March 31, 2003.

5. ManChief Power Company, L.L.C.

[Docket No. ER03-438-001]

Take notice that on March 10, 2003, ManChief Power Company, L.L.C. (ManChief Power) filed amendments to its market-based rate authority proposal.

ManChief Power states that it is the owner of a generating plant located near Brush, Colorado that sells its output to Public Service Company of Colorado under a negotiated long-term power purchase agreement. The tariff had been shared by ManChief Power with Fulton Cogeneration Associates, L.P. with whom ManChief Power previously was, but is no longer, affiliated.

Comment Date: March 31, 2003.

6. New York State Electric & Gas Corporation

[Docket No. ER03-603-000]

Take notice that on March 10, 2003, New York State Electric & Gas Corporation (NYSEG) tendered for filing revisions to its revised retail tariff leaves for retail transmission service relating to NYSEG's Retail Access Program and Economic Development Power service. NYSEG's tariff sheets for electric retail access were filed previously in Docket No. ER00-316-000.

NYSEG states that copies of the filing have been served on the parties listed on the Service List for ER00-316-000. The New York State Public Service Commission, New York Power Authority (NYPA) and NYPA Economic Development Power customers have also been served with copies of the filing.

Comment Date: March 31, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-6724 Filed 3-19-03; 8:45 am]

BILLING CODE 6717-01-P